DEPARTMENT OF COMMERCE

International Trade Administration

[A-570-848]

Freshwater Crawfish Tail Meat From the People's Republic of China; Notice of Final Results of New Shipper Review and Final Rescission of Review

AGENCY: Import Administration, International Trade Administration, U.S. Department of Commerce.

SUMMARY: On September 6, 2001, the Department of Commerce (the Department) published the preliminary results of its new shipper review of the antidumping duty order on freshwater crawfish tail meat from the People's Republic of China (PRC). See Preliminary Results of Antidumping Duty New Shipper Review: Freshwater Crawfish Tail Meat From the People's Republic of China, 66 FR 46601 (September 6, 2001) (Preliminary Results). The new shipper review covers the period September 1, 1999 through September 30, 2000.

Based on our analysis of comments received, we have made changes to the margin calculations. Therefore, the final results differ from the preliminary results. The final weighted-average dumping margin for the reviewed firm is listed below in the section entitled “Final Results of Review.”

EFFECTIVE DATE: December 17, 2001.

FOR FURTHER INFORMATION CONTACT: Matthew Renkey or Mark Hoadley; Office of Antidumping/Countervailing Duty Enforcement VII, Import Administration, International Trade Administration, U.S. Department of Commerce, 14th Street and Constitution Avenue, NW, Washington DC 20230; telephone (202) 482-2312 and (202) 482-0666, respectively.

Applicable Statute

Unless otherwise indicated, all citations to the statute are references to the provisions effective January 1, 1995, the effective date of the amendments made to the Tariff Act of 1930 (the Act) by the Uruguay Round Agreements Act. In addition, unless otherwise indicated, all citations to the Department's regulations are to the provisions codified at 19 CFR part 351 (2000).

Background

The company covered by this new shipper review is Shanghai Taoen International Trading Co., Ltd. (Shanghai Taoen). Since the publication of the Preliminary Results, the following events have occurred. On September 26, 2001, we received a timely submission of publicly available information on the surrogate values for whole live crawfish and crawfish scrap from the Crawfish Processors Alliance (petitioner) and the Louisiana Department of Agriculture & Forestry and Bob Odom, Commissioner. On October 9, 2001, we received a case brief from the petitioner. On October 15, 2001, we received a rebuttal brief from Shanghai Taoen. The Department has now completed this review in accordance with section 751 (a)(2)(B) of the Act.

Scope of Review

The product covered by this review is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTS) under item numbers 1605.40.10.10 and 1605.40.10.90, which are the new HTS for prepared foodstuffs, indicating peeled crawfish tail meat and other, as introduced by the U.S. Customs Service in mid-year 2000, and HTS items 0306.19.00.10 and 0306.29.00, which are reserved for fish and crustaceans in general. The HTS subheadings are provided for convenience and Customs purposes only. The written description of the scope of this order is dispositive.

Analysis of Comments Received

All issues raised in the briefs filed by parties to this new shipper review are addressed in the Memorandum from Joseph A. Spetrini, Deputy Assistant Secretary for AD/CVD Enforcement Group III, to Faryar Shirzad, Assistant Secretary for Import Administration: Issues and Decision Memo for the Final Results of the Antidumping New Shipper Review of Freshwater Crawfish Tail Meat from the People's Republic of China, dated December 7, 2001 (Decision Memo), which is hereby adopted by this notice.

A list of the issues which parties have raised and to which we have responded, all of which are in the Decision Memo, is attached to this notice as an appendix. Parties can find a complete discussion of all issues raised in this review and the corresponding recommendations in this public memorandum, which is on file in the Central Records Unit, room B-099 of the main Commerce Building. In addition, a complete version of the Decision Memo can be accessed directly on the internet at http://ia.ita.doc.gov. The paper copy and electronic version of the Decision Memo are identical in content.

Changes Since the Preliminary Results

Based on our analysis of comments received, we have made certain changes in the margin calculations. For a discussion of the issues and changes made, refer to the Decision Memo.

Final Results of Reviews

We determine that the following weighted-average margin exists for the period September 1, 1999 through September 30, 2000:

Manufacturer/Exporter | Margin (percent)
Shanghai Taoen International Trading Co., Ltd | 7.53

Assessment Rates

The Department shall determine, and the Customs Service shall assess, antidumping duties on all appropriate entries. We have calculated importer-specific per kilogram assessment rates for Shanghai Taoen. We will direct the Customs Service to assess the per kilogram rate against the entered customs quantity for each entry of subject merchandise from Shanghai Taoen during the review period.

Cash Deposit Requirements

The following deposit requirement will be effective upon publication of this notice of new shipper review for all shipments exported by Shanghai Taoen of freshwater crawfish tail meat from the PRC entered, or withdrawn from warehouse, for consumption on or after the date of publication, as provided by section 751(a)(2)(C) of the Act: the per kilogram cash deposit rate for Shanghai Taoen will be the total amount of dumping margins calculated for the POR divided by the total quantity it sold during the POR.

The following rates are in effect and remain unaffected by the results of this new shipper review: (1) For previously-reviewed PRC and non-PRC exporters with separate rates, the cash deposit rate will be the company-specific rate established for the most recent period; (2) for all other PRC exporters, the rate will be the current PRC-wide ad valorem rate, 201.63 percent, established in the most recently completed administrative review (Freshwater Crawfish Tail Meat from the People's Republic of China; Notice of Final Results of Antidumping Duty Administrative Review and New Shipper Reviews, and Final Partial Rescission of Antidumping Duty Administrative Review, 66 FR 20634 (April 24, 2001)); and (3) for all other non-PRC exporters of subject merchandise from the PRC, the cash deposit rate will be the rate applicable to the PRC supplier of that exporter.

This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with § 351.305(a)(3) of the Department's regulations. Timely written notification of the return/destruction of APO materials or conversion to judicial protective order is hereby requested. Failure to comply with the regulations and the terms of an APO is a sanctionable violation.

This new shipper review and notice are in accordance with sections 751(a)(2)(B) and 777(i)(1) of the Act.

Dated: December 7, 2001.
Faryar Shirzad,
Assistant Secretary for Import Administration.

Appendix

List of Issues

1. Surrogate Value for Whole, Live Crawfish,

2. Surrogate Value for Whole, Live Crawfish Based on Size-Specific Prices

3. Wet/Dry Conversion Factor for Scrap

4. Relevance of Chitin Extraction from Shrimp Shells

[FR Doc. 01-31020 Filed 12-14-01; 8:45 am]

BILLING CODE 3510-DS-P